DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of October, 2001.

In order for an affirmative determination to be made and a certification of eligibility to apply for worker adjustment assistance to be issued, each of the group eligibility requirements of section 222 of the Act must be met.

(1) that a significant number of proportion of the workers in the workers' firm, or an appropriate subdivision thereof, have become totally or partially separated,

(2) that sales or production, or both, of the firm or subdivision have decreased absolutely, and

(3) that increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-40,090; New England Castings LLC, Hiram, MI

TA-W-39,841; Harney Coach Works, Hines, OR

TA-W-39,487; Perlos, Inc., Fort Worth, TX

TA-W-38,904; Schott Corp., Marshall, MN

TA-W-39,758; Citation Corp., Mansfield, OH

TA-W-39,997; Keokuk Ferro-Sil, Inc., Keokuk, IA

TA-W-39,338; Illinois Tool Works, Inc., ITW Electronic Packaging Systems, Camtex/Caritech, Arlington, TX

TA-W-39,799; Greensboro Printing Co., Greensboro, NC

TA-W-39,246; ABB Automation, Williamsport, PA

In the following cases, the investigation revealed that the criteria for eligibility have not been met for the reasons specified.

Increased imports did not contribute importantly to worker separation at the firm.

TA-W-40,196; Motorola, Atlanta Order Fulfillment Center & Consumer Products Div., Suwanee, GA

TA-W-39,784; Elcom, Inc., El Paso, TX

TA-W-40,206; Fujitsu Microelectronics, Inc., Gresham Manufacturing Div., Gesham, OR

TA-W-39,933; Helca Mining Co., Lucky Friday Unit, Mullan, ID

The workers firm does not produce an article as required for certification under section 222 of the Trade Act of 1974.

TA-W-40,212; General Electric Capital, Card Services, Bloomington, MN

Affirmative Determinations for Worker Adjustment Assistance

The following certifications have been issued; the date following the company name and location of each determination references the impact date for all workers of such determination.

TA-W-38,998; Dye Works, Inc., Trenton, NJ: March 21, 2000.

TA-W-39,925; National Steel Corp., Portage, IN: March 9, 2000.

TA-W-40,115; Sunrise Apparel, Inc., Concord, NC: September 19, 2000.

TA-W-39,418; MCMS, Inc., Nampa, ID: May 22, 2000.

TA-W-39,734; Yale Hoists, Forrest City, AR: July 19, 2000.

TA-W-39,642; Ceres Candles and Gifts, Inc., Hayward, CA: June 27, 2000.

TA-W-40,093; Revere Ware, Clinton, IL: June 4, 2001.

TA-W-39,641 and A; Agilent Technologies, Inc., Service Test Div., Westford, MA and Marlborough, MA: June 28, 2000.

TA-W-39,981; B and L Sportswear, Four Oaks, NC: August 20, 2000.

TA-W-39,757; International Paper, Corinth, NY: May 19, 2001.

TA-W-39,796; Scapa North America, Watertown, NY: July 30, 2000.

TA-W-40,080; Lyon Fashions, Inc., McAlisterville, PA: September 13, 2000.

TA-W-39,556; Ademco Group, Syosset, NY: October 10, 2000.

TA-W-39,965; Fishman and Tobin, Inc., Cutting Dept., Medley, FL: August 16, 2000.

TA-W-39,768; Power One, Allston, MA: July 20, 2000.

TA-W-39,630; John Cane, Inc., Crystal Lake, IL: June 19, 2000.

TA-W-39,913; Gilbert Wood Products, Greenwood, ME: August 13, 2000.

TA-W-39,750; Arvin Meritor, Inc., Light Vehicle Aftermarket, Pulaski, TN: July 18, 2000.

TA-W-40,185; Northrop Gruman, Formerly Known as Litton Winchester Electronics, Watertown, CT: September 26, 2000.

TA-W-39,635; Alpha Industries, Inc., Knoxville, TN: June 27, 2000.

TA-W-39,527; International Wire Group, Camden Wire Division, Camden, NY and A; OWI—Camden Division, Camden, NY, B; Omega Wire Division, Williamstown, NY, C; OWI—Jordan Division, Jordan, NY and D; Omega—Rome Division, Rome, NY: June 15, 2000.

TA-W-39,876; Elastic Corporation of America, Inc., Hemingway, SC: July 31, 2000.

TA-W-39,495; Cold Metal Products, Inc., Finishing, Shipping and Receiving Departments, New Britain, CT: June 1, 2000.

TA-W-40,081 & A; Goss Graphic Systems, Inc., Cedar Rapids, IA and Westmont, IL: September 1, 2000.

TA-W-39,824; Amerbelle Corp., Vernon, CT: August 13, 2000.

TA-W-39,843; Ciba Specialty Chemicals, Old Bridge, NJ: August 8, 2000.

TA-W-39,937; Sanmina Corp., Pleasant Prairie, WI: August 14, 2000.

TA-W-40,130; Greenway Mfg. Co., Spartanburg, SC: September 11, 2000.

TA-W-40,114 & A; Phoenix Apparel Resources, Greensboro, NC and Sanford, NC: September 19, 2000.

Also, pursuant to title V of the North American Free Trade Agreement Implementation Act (P.L. 103-182) concerning transitional adjustment assistance hereinafter called (NAFTA-TAA) and in accordance with section 250(a), subchapter D, chapter 2, Title II, of the Trade Act as amended, the Department of Labor presents summaries of determinations regarding eligibility to apply for NAFTA-TAA issued during the month of October, 2001.

In order for an affirmative determination to be made and a certification of eligibility to apply for NAFTA-TAA the following group eligibility requirements of section 250 of the Trade Act must be met:

(1) that a significant number or proportion of the workers in the workers' firm, or an appropriate subdivision thereof, (including workers in any agricultural firm or appropriate subdivision thereof) have become totally or partially separated from employment and either—

(2) that sales or production, or both, of such firm or subdivision have decreased absolutely,

(3) that imports from Mexico or Canada of articles like or directly competitive with articles produced by such firm or subdivision have increased, and that the increases imports contributed importantly to such workers' separations or threat of separation and to the decline in sales or production of such firm or subdivision; or

(4) that there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-05353 & A; Phoenix Apparel Resources, Greensboro, NC and Sanford, NC

NAFTA-TAA-05244; Hecla Mining Co., Lucky Friday Unit, Mullan, ID

NAFTA-TAA-05200; Greensboro Printing Co., Greensboro, NC

NAFTA-TAA-05055; Alpha Industries, Inc., Knoxville, TN

NAFTA-TAA-05377; Fujitsu Microelectronics, Inc., Gresham Manufacturing Div., Gresham, OR

NAFTA-TAA-05165; Elcom, Inc., El Paso, TX

NAFTA-TAA-05336; Greenway Mfg. Co., Spartanburg, SC

NAFTA-TAA-05305; Flomatic International, Div. of Servend International, Clackamas, OR

NAFTA-TAA-04683; National Steel Corp., Portage, IN

NAFTA-TAA-04915; Equitable Resources, div. of Kentucky West Virginia Gas Co. LLC, Prestonburg, KY

Affirmative Determinations NAFTA-TAA

NAFTA-TAA-05124; Superior Electric, Bristol, CT: June 23, 2000.

NAFTA-TAA-04931; MCMS, Inc., Nampa, ID: May 22, 2000.

NAFTA-TAA-05373; Northrop Grumman, formerly known as Litton Winchester Electronics, Watertown, CT: September 26, 2000.

NAFTA-TAA-05104; Ceres Candles and Gifts, Inc., Hayward, CA: June 28, 2000.

NAFTA-TAA-05378; Burle Industries, Inc., Lancaster, PA: September 28, 2000.

NAFTA-TAA-05120; Arvin Meritor, Inc., Light Vehicle Aftermarket, Pulaski, TN: July 18, 2000.

NAFTA-TAA-05105; Ademco Group, Syosset, NY: October 10, 2000.

NAFTA-TAA-05049; John Crane, Inc., Crystal Lake, IL: June 21, 2000.

NAFTA-TAA-05238; Sanmina Corp., Pleasant Prairie, WI: August 27, 2000.

NAFTA-TAA-04676; Dye Works, Inc., Trenton, NJ: March 21, 2000.

NAFTA-TAA-04638; Schott Corp., Marshall, MN: March 6, 2000.

NAFTA-TAA-05339; Steele Apparel, Inc., Kilmichael, MS: September 5, 2000.

I hereby certify that the aforementioned determinations were issued during the month of October, 2001. Copies of these determinations are available for inspection in Room C-5311, U.S. Department of Labor, 200 Constitution Avenue, NW., Washington, DC 20210 during normal business hours or will be mailed to persons who write to the above address.

Dated: November 5, 2001.
Edward A. Tomchick,
Director, Division of Trade Adjustment Assistance.

[FR Doc. 01-28165 Filed 11-8-01; 8:45 am]

BILLING CODE 4510-30-M